DEPARTMENT OF TRANSPORTATION

Federal Aviation Administration

14 CFR Part 39

[Docket No. 99-SW-82-AD]

Airworthiness Directives; Eurocopter France Model AS332L2 Helicopters

AGENCY: Federal Aviation Administration, DOT.

ACTION: Notice of proposed rulemaking (NPRM).

SUMMARY: This document proposes the adoption of a new airworthiness directive (AD) that is applicable to Eurocopter France Model AS332L2 helicopters. This proposal would require inspecting for interference between the transmission flexible mounting plate (plate) and the forward and aft shims (shims), replacing shims and repairing the plate if interference is found, and inspecting the plate for a broken plate slat (slat) and repairing the plate if a broken slat is found or replacing the plate if slat damage beyond repair limits is found. This proposal is prompted by the discovery that several helicopters were manufactured with shims that did not have cutouts to permit relative motion between the plate slats and the shims without interference. The actions specified by the proposed AD are intended to prevent cracking of the plate slats, increased helicopter vibration, loss of transmission mounting integrity, and subsequent loss of control of the helicopter.

DATES: Comments must be received on or before May 23, 2000.

ADDRESSES: Submit comments in triplicate to the Federal Aviation Administration (FAA), Office of the Regional Counsel, Southwest Region, Attention: Rules Docket No. 99-SW-82-AD, 2601 Meacham Blvd., Room 663, Fort Worth, Texas. Comments may be inspected at this location between 9 a.m. and 3 p.m., Monday through Friday, except Federal holidays.

The service information referenced in the proposed rule may be obtained from American Eurocopter Corporation, 2701 Forum Drive, Grand Prairie, Texas 75053-4005, telephone (972) 641-3460, fax (972) 641-3527. This information may be examined at the FAA, Office of the Regional Counsel, 2601 Meacham Blvd., Fort Worth, Texas.

FOR FURTHER INFORMATION CONTACT: Shep Blackman, Aerospace Engineer, FAA, Rotorcraft Directorate, Rotorcraft Standards Staff, 2601 Meacham Blvd., Fort Worth, Texas 76137, telephone (817) 222-5296, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket No. 99-SW-82-AD.” The postcard will be date stamped and returned to the commenter.

Availability of NPRMs

Any person may obtain a copy of this NPRM by submitting a request to the FAA, Office of the Regional Counsel, Southwest Region, Attention: Rules Docket No. 99-SW-82-AD, 2601 Meacham Blvd., Room 663, Fort Worth, Texas 76137.

Discussion

The Direction Generale De L'Aviation Civile (DGAC), which is the airworthiness authority for France, notified the FAA that an unsafe condition may exist on Eurocopter France Model AS332L2 helicopters. The DGAC advises that interference between the plate and the shims on the transmission deck can cause damage, which can lead to incipient slat cracks.

Eurocopter France has issued Eurocopter AS 332 Service Bulletin No. 05.00.54, dated July 8, 1999, which specifies ensuring that there is no interference between the plate and the shims on the transmission deck and ensuring that there are no broken slats. If broken slats are found, the service bulletin specifies procedures for replacing the plate. If interference is found, it specifies procedures for replacing the shims and repairing the plate or replacing the plate if slat damage is beyond repair limits. The DGAC classified this service bulletin as mandatory and issued AD 1999-329-015(A), dated August 11, 1999, to ensure the continued airworthiness of these helicopters in France.

This helicopter model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Since an unsafe condition has been identified that is likely to exist or develop on other Eurocopter France Model AS332L2 helicopters of the same type design registered in the United States, the proposed AD would require inspecting for interference between the plate, part number (P/N) 332A38-0106-00, the forward shim, P/N 332A22307420, and the aft shim, P/N 332A22307020, and replacing shims and repairing the plate if interference is found; and inspecting the plate for broken slats and repairing the plate if broken slats are found or replacing the plate if slat damage beyond repair limits is found. The actions would be required to be accomplished in accordance with the service bulletin described previously.

The FAA estimates that 1 helicopter of U.S. registry would be affected by this proposed AD, that it would take approximately 1 work hour per helicopter to accomplish the inspections, 80 work hours to accomplish the shim replacements and the plate repair, if necessary, and installation of Eurocopter France MOD 0725946 and MOD 0726012, and that the average labor rate is $60 per work hour. Required parts would cost approximately $4,126 for a forward shim; $4,052 for an aft shim; and $53,022 for a plate. Based on these figures, the total cost impact of the proposed AD on U.S. operators is estimated to be $66,060 to accomplish the inspections and all the replacements and repair, if necessary, and installation of both MODs.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 99-SW-82-AD.

Applicability: Model AS332L2 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required within 50 hours time-in-service (TIS) or within 50 hours TIS after accumulating 1,000 hours TIS on the transmission flexible mounting plate (plate), whichever occurs last, unless accomplished previously.

To prevent cracking of the plate slats, increased helicopter vibration, loss of transmission mounting integrity, and subsequent loss of control of the helicopter, accomplish the following:

(a) Inspect for interference between the plate, part number (P/N) 332A38-0106-00, the forward shim, P/N 332A22307420, and the aft shim (shim), P/N 332A22307020, in accordance with paragraph 2.B.1 of the Accomplishment Instructions in Eurocopter AS 332 Service Bulletin No. 05.00.54, dated July 8, 1999 (SB). If interference is found, replace the shims and repair the plate in accordance with paragraph 2.B.3 of the Accomplishment Instructions in the SB before further flight.

(b) Visually inspect the plate for a broken slat. If a broken slat is found, replace the plate and the shims with an airworthy plate and shims in accordance with paragraph 2.B.3 of the SB before further flight. Replace the plate with an airworthy plate if slat damage beyond repair limits is found.

(c) Install Eurocopter France MOD 0725946 and Eurocopter France MOD 0726012 at the next major inspection or when the transmission is next removed, whichever occurs first. Installation of both MOD's is considered a terminating action for the requirements of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

Note 3: The subject of this AD is addressed in Direction Generale De L'Aviation Civile (France) AD No. 1999-329-015(A), dated August 11, 1999.

Issued in Fort Worth, Texas, on March 17, 2000.
Eric Bries,
Acting Manager, Rotorcraft Directorate, Aircraft Certification Service.

[FR Doc. 00-7338 Filed 3-23-00; 8:45 am]

BILLING CODE 4910-13-P